DEPARTMENT OF ENERGY

Federal Energy Regulatory Commission

[Docket No. ER02-854-003, et al.]

Florida Power & Light Company, et al.; Electric Rate and Corporate Regulation Filings

August 7, 2002.

The following filings have been made with the Commission. The filings are listed in ascending order within each docket classification.

1. Florida Power & Light Company

[Docket No. ER02-854-003]

Take notice that on August 1, 2002, Florida Power & Light Company (FPL) filed, pursuant to the Federal Energy Regulatory Commission's Order issued on July 23, 2002 in Docket Nos. ER02-854-001 and ER02-854-002, a compliance filing making the required changes to the Interconnection & Operation Agreement between FPL and Blue Heron Energy Center, LLC.

Comment Date: August 22, 2002.

2. American Transmission Company LLC

[Docket Nos. ER02-1870-001, ER02-1871-001, ER02-1872-001, ER02-1873-001, ER02-1874-001, ER02-1875-001, ER02-1876-001, ER02-1877-001, ER02-1878-001, ER02-1879-001, ER02-1880-001, ER02-1881-001, ER02-1882-001, and ER02-1883-001]

Take notice that on August 1, 2002, American Transmission Company LLC (ATCLLC) tendered for filing fourteen Distribution-Transmission Interconnection Agreements reformatted in accordance with Order No. 614 in compliance with the Commission's July 2, 2002 Letter Order.

Comment Date: August 22, 2002.

3. Southern Company Services, Inc.

[Docket No. ER02-2219-001]

Take notice that on August 1, 2002, Southern Company Services, Inc. (SCS), acting on behalf of Georgia Power Company (GPC) and Savannah Electric and Power Company (Savannah), filed with the Federal Energy Regulatory Commission (Commission) a supplement to its July 1, 2002 filing of a letter agreement (Agreement) between Southern Power Company, GPC and Savannah that authorizes Georgia Power and Savannah to commence, and Southern Power to pay for costs associated with activities to interconnect Southern Power's generating facility in Effingham County, Georgia. The supplement consists of a letter agreement extending the term of the Agreement.

Comment Date: August 22, 2002.

4. Arizona Public Service Company

[Docket No. ER02-2328-001]

Take notice that on August 1, 2002, Arizona Public Service Company (APS) tendered for filing a correction to the two Service Agreements with Public Service Company of New Mexico, Wholesale Power Marketing under APS” Open Access Transmission Tariff filed in the above referenced docket.

A copy of this filing has been served on Public Service Company of New Mexico, Wholesale Power Marketing, New Mexico Public Regulation Commission, and the Arizona Corporation Commission.

Comment Date: August 22, 2002.

5. Accent Energy Inc.

[Docket No. ER02-2399-000]

Take notice that on July 31, 2002, Accent Energy Inc. (Accent) petitioned the Commission for acceptance of Accent Rate Schedule FERC No. 1; the granting of certain blanket approvals, including the authority to sell electricity at market-based rates; and the waiver of certain Commission regulations.

Accent is a Delaware corporation with its principal place of business in Dublin, Ohio. Accent is involved in natural gas marketing and the marketing of electricity. Accent proposes to act as a retail energy marketer, selling natural gas and power to commercial and industrial customers. However, from time to time it may be deemed to act as a power marketer, purchasing electricity and reselling it to wholesale customers through its supply agreements with its wholesale suppliers. Accent is not in the business of generating or transmitting electric power.

Comment Date: August 21, 2002.

6. Southern California Water Company

[Docket No. ER02-2400-000]

Take notice that on July 31, 2002, Southern California Water Company (SCWC) tendered for filing with the Federal Energy Regulatory Commission an application for market-based rate authority under which SCWC will engage in wholesale electric power and energy transactions at market-based rates. Copies of this filing were served upon the Public Utilities Commission of the State of California.

Comment Date: August 21, 2002.

7. Duke Energy Corporation

[Docket No. ER02-2401-000]

Take notice that on July 31, 2002, Duke Energy Corporation (Duke) on behalf of Duke Electric Transmission (Duke ET), tendered for filing Service Agreement for Network Integration Transmission Service (NITSA) between Duke ET and the Commissioners of Public Works of the City of Greenwood, South Carolina under Duke's Open Access Transmission Tariff.

Duke seeks an effective date for the NITSA of July 1, 2002.

Comment Date: August 21, 2002.

8. Great Bay Power Corporation

[Docket No. ER02-2402-000]

Take notice that on July 31, 2002, Great Bay Power Corporation (Great Bay) filed with the Federal Energy Regulatory Commission pursuant to Section 205 of the Federal Power Act and 18 CFR 35.13 to amend its Purchased Power Agreement executed in 1993 between Great Bay and Unitil Power Corp. (UPC) (1993 PPA) as provided in the Amended and Restated Purchased Power Agreement, along with the Agreement to Amend, entered into by Great Bay and UPC (Amended PPA). The amendments to the 1993 PPA are a result of Great Bay's intention to sell its interest in the Seabrook Nuclear Power Station (Seabrook). Great Bay requests an effective date of the earlier of the Seabrook transaction's closing date or December 1, 2002.

Comment Date: August 21, 2002.

9. Commonwealth Edison Company

[Docket No. ER02-2403-000]

Take notice that on July 31, 2002, Commonwealth Edison Company (ComEd) submitted for filing an executed Network Service and Network Operating Agreement (Service Agreement) between ComEd and Ameren Energy Marketing (Ameren), two executed agreements for dynamic scheduling of transmission service (Scheduling Agreements), and an agreement for short-term firm point-to-point transmission service (Transmission Agreement) between ComEd and Exelon Generation Company, LLC, (EXGN) under ComEd's FERC Electric Tariff, Second Revised Volume No. 5.

ComEd seeks an effective date of May 20, 2002 for the Service Agreement, an effective date of July 1, 2002 for the first of the Scheduling Agreements and the Transmission Agreement, and an effective date of July 8, 2002 for the second of the Scheduling Agreements, and, accordingly, seeks waiver of the Commission's notice requirements. ComEd states that a copy of this filing has been served on Ameren, EXGN and the Illinois Commerce Commission.

Comment Date: August 21, 2002.

10. WPS Energy Services, Inc.

[Docket No. ER02-2404-000]

Take notice that on July 31, 2002, WPS Energy Services, Inc. (ESI) filed a brokering and dispatch agreement between ESI and WPS Empire State, Inc. (Empire) (the Agreement). ESI requests waiver of the Federal Energy Regulatory Commission's notice of filing requirements to permit the Agreement to become effective on May 31, 2002.

A copy of the filing was served upon Empire.

Comment Date: August 21, 2002.

11. California Independent System Operator Corporation

[Docket No. ER02-2405-000]

Take notice that on July 31, 2002, the California Independent System Operator Corporation (ISO), tendered for filing a Scheduling Coordinator Agreement between the ISO and TXU Energy Trading Company LP for acceptance by the Federal Energy Regulatory Commission.

The ISO states that this filing has been served on TXU Energy Trading Company LP and the California Public Utilities Commission. The ISO is requesting waiver of the 60-day notice requirement to allow the Scheduling Coordinator Agreement to be made effective as of July 19, 2002.

Comment Date: August 21, 2002.

12. Conectiv

[Docket No. ER02-2406-000]

Take notice that on July 31, 2002, Conectiv, on behalf of Atlantic City Electric Company (ACE), tendered for filing a Notice of Cancellation and two revised cover sheets to cancel two interconnection agreements between ACE and NRG Energy, Inc. (NRG) on file as Service Agreement No. 481 and Service Agreement No. 482, respectively, under PJM Interconnection, L.L.C.'s (PJM) open access transmission tariff, FERC Electric Tariff, Third Revised Volume No. 1.

Conectiv initially filed the two interconnection agreements in anticipation of a sale by ACE to NRG of two electrical generating stations that was terminated after the filing of the two interconnection agreements with the Commission. Conectiv respectfully requests that the Commission waive its notice requirements and allow the Notice of Cancellation and the revised cover sheets to become effective as of September 1, 2000.

Copies of the filing were served upon NRG, the Maryland Public Service Commission, the Delaware Public Service Commission, the New Jersey Board of Public Utilities, the Virginia State Corporation Commission, the Pennsylvania Public Utility Commission and PJM.

Comment Date: August 21, 2002.

13. Maclaren Energy, Inc.

[Docket No. ER02-2407-000]

Take notice that on August 1, 2002, Maclaren Energy, Inc. (Maclaren) tendered for filing with the Federal Energy Regulatory Commission (Commission) a transmittal letter notifying the Commission that Maclaren legally changed its name to Brascan Energy Marketing Inc. on June 27, 2002. The filing also proposes a revision to Maclaren's tariff to add the language required by the Commission in its November 20, 2001 order in Docket No. EL01-118-000 to ensure that Maclaren's rates remain just and reasonable.

Comment Date: August 22, 2002.

14. Lower Mount Bethel Energy, LLC

[Docket No. ER02-2408-000]

Take notice that on August 1, 2002, Lower Mount Bethel Energy, LLC filed with the Federal Energy Regulatory Commission (Commission) an application for authority to sell electric energy, capacity and certain ancillary services at market-based rates.

Comment Date: August 22, 2002.

15. California Independent System Operator Corporation

[Docket No. ER02-2409-000]

Take notice that on August 2, 2002, the California Independent System Operator Corporation (ISO), tendered for filing a Scheduling Coordinator Agreement between the ISO and Public Service Company of New Mexico for acceptance by the Commission.

The ISO states that this filing has been served on Public Service Company of New Mexico and the California Public Utilities Commission. The ISO is requesting waiver of the 60-day notice requirement to allow the Scheduling Coordinator Agreement to be made effective as of July 19, 2002.

Comment Date: August 23, 2002.

16. California Independent System Operator Corporation

[Docket No. ER02-2410-000]

Take notice that on August 2, 2002, the California Independent System Operator Corporation (ISO), tendered for filing a Scheduling Coordinator Agreement between the ISO and Midway Sunset Cogeneration Company for acceptance by the Commission.

The ISO states that this filing has been served on Midway Sunset Cogeneration Company and the California Public Utilities Commission. The ISO is requesting waiver of the 60-day notice requirement to allow the Scheduling Coordinator Agreement to be made effective as of July 22, 2002.

Comment Date: August 23, 2002.

17. Southern California Edison Company

[Docket No. ER02-2411-000]

Take notice that on August 2, 2002, Southern California Edison Company (SCE) tendered for filing a Letter Agreement between SCE and the City of Corona (Corona). The Letter Agreement specifies the terms and conditions under which SCE will commence performance of the engineering, design, procurement, and preparation of specifications necessary for the required interconnection facilities and any required system upgrades to commence Distribution Service to Corona by Corona's proposed in-service date of December 1, 2002.

SCE respectfully requests that the Letter Agreement become effective on July 24, 2002. Copies of this filing were served upon the Public Utilities Commission of the State of California and Corona.

Comment Date: August 23, 2002.

18. PowerSól Energy Marketing, LLC

[Docket No. ER02-2413-000]

Take notice that on August 1, 2002, PowerSól Energy Marketing, LLC (PowerSól) petitioned the Commission for acceptance of PowerSól Rate Schedule FERC No. 1; the granting of certain blanket approvals, including the authority to sell electricity at market-based rates; and the waiver of certain Commission regulations.

PowerSól intends to engage in wholesale electric power and energy purchases and sales as a marketer. PowerSól is not in the business of generating or transmitting electric power. PowerSól is a wholly-owned subsidiary of PowerSól Group, LP, which, through its affiliates, engaged in public affairs, public relations, financial services and real estate.

Comment Date: August 23, 2002.

19. Florida Power & Light Company

[Docket No. ER02-2414-000]

Take notice that on August 2, 2002, Florida Power & Light Company (FPL) filed with the Federal Energy Regulatory Commission an unexecuted Interconnection and Operation Agreement between FPL and Duke Energy Fort Pierce, LLC (Duke) that sets forth the terms and conditions governing the interconnection between Duke's generating project and FPL's transmission system. A copy of this filing has been served on Duke and the Florida Public Service Commission.

Comment Date: August 23, 2002.

20. PJM Interconnection, L.L.C.

[Docket No. ER02-2415-000]

Take notice that on August 2, 2002, PJM Interconnection, L.L.C. (PJM), submitted amendments to the PJM Open Access Transmission Tariff to add provisions under which generators that benefit from transmission capability created by facilities or upgrades that were built to accommodate, and at the expense of, generators previously interconnected with the transmission system will be responsible for a proportional share of the costs of the previous facilities or upgrades, provided that the generator that originally paid for the relevant facilities or upgrades agrees to relinquish Incremental FTRs proportional to the cost responsibility assigned to the subsequent generator.

Copies of this filing have been served on all PJM members, and the state electric utility commissions in the PJM region.

Comment Date: August 23, 2002.

21. PJM Interconnection, L.L.C.

[Docket No. ER02-2416-000]

Take notice that on August 2, 2002 PJM Interconnection, L.L.C. (PJM), submitted for filing an executed interconnection service agreement between PJM and Sweetheart Cup Company, Inc. PJM requests a waiver of the Commission's 60-day notice requirement to permit the effective date agreed to by the parties.

Copies of this filing were served upon each of the parties to the agreement and the state regulatory commissions within the PJM region.

Comment Date: August 23, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-20406 Filed 8-12-02; 8:45 am]

BILLING CODE 6717-01-P